DEPARTMENT OF COMMERCE

[I.D. 061702B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Northeast Region Yellowtail Flounder Exemption Programs and Days-at-Sea Allocation Appeals.

Form Number(s): None.

OMB Approval Number: None.

Type of Request: Emergency submission.

Burden Hours: 877.

Number of Respondents: 1,400.

Average Hours Per Response: 2 minutes to enter or leave exemption program; 2 hours for a days-at-sea baseline appeal.

Needs and Uses: NOAA is requesting Paperwork Reduction Act approval for new court-ordered requirements that would allow Northeast multispecies fishermen to enter an exemption program that would permit those fishing north of 40″ N. latitude to possess yellowtail flounder, and those fishing in areas other than the Southern New England regulated mesh area to possess yellowtail flounder in excess of the trip limits. A provision would also be added that would allow permit holders to appeal their baseline allocation of days-at-sea.

Affected Public: Business or other for-profit organizations, individuals or households.

Frequency: On occasion.

Respondent's Obligation: Required to obtain or retain a benefit.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: June 13, 2002.
Madeleine Clayton,
Departmental Paperwork Clearance Officer, Office of the Chief Information Officer.

[FR Doc. 02-15597 Filed 6-19-02; 8:45 am]

BILLING CODE 3510-22-S